DEPARTMENT OF THE INTERIOR

National Park Service

[NPS-WASO-NAGPRA-NPS0035229; PPWOCRADN0-PCU00RP14.R50000]

Notice of Inventory Completion: Oregon State University NAGPRA Office, Corvallis, OR

AGENCY: National Park Service, Interior.

ACTION: Notice.

SUMMARY: In accordance with the Native American Graves Protection and Repatriation Act (NAGPRA), the Oregon State University NAGPRA Office (acting in place of the Oregon State University Anthropology Department) has completed an inventory of human remains and associated funerary objects and has determined that there is a cultural affiliation between the human remains and associated funerary objects and Indian Tribes or Native Hawaiian organizations in this notice. The human remains and associated funerary objects were removed from Benton, Clatsop, and Linn Counties in Oregon.

DATES: Repatriation of the human remains and associated funerary objects in this notice may occur on or after March 3, 2023.

ADDRESSES: Dawn Marie Alapisco, Oregon State University NAGPRA Office, 106 Gilkey Hall, Corvallis, OR 97331, telephone (541) 737-4075, email dawnmarie.alapisco@oregonstate.edu.

SUPPLEMENTARY INFORMATION: This notice is published as part of the National Park Service's administrative responsibilities under NAGPRA. The determinations in this notice are the sole responsibility of the Oregon State University NAGPRA Office. The National Park Service is not responsible for the determinations in this notice. Additional information on the determinations in this notice, including the results of consultation, can be found in the inventory or related records held by the Oregon State University NAGPRA Office.

Description

In 1970, human remains representing, at minimum, one individual were removed from Benton County, OR, by Oregon State University (OSU) field crews under the supervision of Dr. Wilbur A. Davis, prior to destruction due to a creek channel clearing project. No known individual was identified. No associated funerary objects are present.

In 1973 and 1974, human remains representing, at minimum, two individuals were removed from Benton County, OR. The Flat Creek site was excavated for the Natural Resources Conservation Service (NRCS) in 1973, and for Linn-Benton Community College (as a field school led by Ina Fargher) in 1974. No known individuals were identified. The 12 associated funerary objects are two lots of lithics, eight beads, one digging stick handle, and one ball.

In the early 1990s, human remains representing, at minimum, one individual were removed from Benton County, OR. A farmer in the Kings Valley area was digging a watering pond when he encountered what appeared to be ancient animal bones. An OSU archeologist was contacted to examine the bones. A mastodon vertebra yielded a radiocarbon date of approximately 11,000 BP. Subsequent work at the site encountered a partial human humerus. No known individual was identified. No associated funerary objects are present.

In the late 1970s, human remains representing, at minimum, two individuals were removed from the Palmrose site near Seaside, in Clatsop County, OR, by an unnamed instructor at Clatsop Community College (CCC). The instructor has long since left the employ of CCC, and CCC no longer has any record of the excavation. The project encountered a burial. Initially, the OSU Anthropology Department took custody of the human skeletal remains. Subsequently, it took control of the human remains. No known individuals were identified. No associated funerary objects are present.

In 1979, human remains representing, at minimum, five individuals were removed from Linn County, OR. Marty Rosenson, an archeology instructor at Linn Benton Community College (LBCC), performed an archeological survey at a Kalapuya mound on private property near Tangent at the request of the landowner. When Rosenson left the college in 1988, he took all his field notes and documentation with him. In April of 1990, LBCC transferred control of the items removed by Rosenson to OSU Anthropology. No known individuals were identified. The 327 associated funerary objects are 177 lots of lithic material, 126 lots of faunal bone, 14 projectile points, four bird points, one lot of charcoal, one stone, one pestle, one ceramic fragment, one worked bone, and one shell fragment.

In 1973, human remains representing, at minimum, four individuals were removed from Davidson, Little Muddy Creek, in Linn County, OR, by Dr. Wilbur A. Davis of Oregon State University, and C. Melvin Aikens and Otto E. Henrickson of the University of Oregon under a contract with the U.S. Department of the Interior. No known individuals were identified. The eight associated funerary objects are one dentalia purse, one bone whistle, one awl, one awl fragment, one spoon and handle, one bone tool, one animal claw, and one clay marble lot.

In 1972, human remains representing, at minimum, four individuals were removed from a site near Scio in Linn County, OR, by the OSU Anthropology Department. The burials were excavated at the request of the private landowner. One of the burials had been vandalized by the backhoe crew, but the other burials were intact and were excavated under controlled conditions. An estimated burial date sometime between A.D. 1845 and 1853 is based on associated burial objects and documented Euro-American settlement in the Scio area. Some of the items taken by the backhoe crew were transferred to the OSU Anthropology Department. No known individuals were identified. The 27 associated funerary objects are three lots of dentalia beads, two lots of shell fragments, two lots of metal fragments, two lots of copper tubes, one lot of decorated hide strips, one screw, one lot of metal bucket scraps, one gunflint, one metal hoop, one lot of glass beads, one lot of lithic flakes, one lithic core, one lot of nail fragments, one worked wood wedge, one lot of flat triangular copper pendants, one ran pendant, one ran, one lot of musket balls, one lot of wood firearm fragments, one lot of cloth and hide fragments, one lot of wax casts from burials, and one lot of buttons.

In June of 1955, human remains representing, at minimum, two individuals were removed from a site near Tangent in Linn County, OR, by amateur excavators. At an unknown date the human remains were transferred to the Oregon State Police (OSP), along with information concerning the approximate date and location of the excavations. In September of 1989, the OSU Anthropology Department received the ancestral human remains from the Oregon State Police. No known individuals were identified. The one associated funerary object is an obsidian flake.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, kinship, and linguistic.

Determinations

Pursuant to NAGPRA and its implementing regulations, and after consultation with the appropriate Indian Tribes and Native Hawaiian organizations, the Oregon State University NAGPRA Office has determined that:

• The human remains described in this notice represent the physical remains of 21 individuals of Native American ancestry.

• The 375 objects described in this notice are reasonably believed to have been placed with or near individual human remains at the time of death or later as part of the death rite or ceremony.

• There is a relationship of shared group identity that can be reasonably traced between the human remains and associated funerary objects described in this notice and the Confederated Tribes of Siletz Indians of Oregon (previously listed as Confederated Tribes of the Siletz Reservation) and the Confederated Tribes of the Grand Ronde Community of Oregon.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 3, 2023. If competing requests for repatriation are received, the Oregon State University NAGPRA Office must determine the most appropriate requestor prior to repatriation. Requests for joint repatriation of the human remains and associated funerary objects are considered a single request and not competing requests. The Oregon State University NAGPRA Office is responsible for sending a copy of this notice to the Indian Tribes identified in this notice.

Authority: Native American Graves Protection and Repatriation Act, 25 U.S.C. 3003, and the implementing regulations, 43 CFR 10.9, § 10.10, and § 10.14.

Dated: January 25, 2023.
Melanie O'Brien,
Manager, National NAGPRA Program.

[FR Doc. 2023-02065 Filed 1-31-23; 8:45 am]

BILLING CODE 4312-52-P